DEPARTMENT OF HEALTH AND HUMAN SERVICES

[Document Identifier: OS-4040-0013]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 2, 2018.

ADDRESSES: Submit your comments to Sherrette.Funn@hhs.gov or by calling (202) 795-7714.

FOR FURTHER INFORMATION CONTACT: When submitting comments or requesting information, please include the document identifier 4040-0013-60D and project title for reference to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Disclosure of Lobbying Activities (SF-LLL).

Type of Collection: Extension.

OMB No. 4040-0013.

Abstract: Disclosure of Lobbying Activities (SF-LLL) and Certification Regarding Lobbying are used by applicants to apply for Federal financial assistance. The Disclosure of Lobbying Activities (SF-LLL) and Certification Regarding Lobbying forms allow the applicants to provide lobbying details as part of their grant proposals. These forms are evaluated by Federal agencies as part of the overall grant application. Grants.gov seeks a 3-year extension.

Type of respondent: The Disclosure of Lobbying Activities (SF-LLL) and Certification Regarding Lobbying forms are used by organizations to apply for Federal financial assistance in the form of grants. These forms are submitted to the Federal grant-making agencies for evaluation and review.

Annualized Burden Hour Table
Forms (if necessary) | Respondents (if necessary) | Number of respondents | Number of responses per respondents | Average burden per response | Total burden hours
Disclosure of Lobbying Activities (SF-LLL) | Grant-seeking organizations | 12,675 | 1 | 1 | 12,675
Certification Regarding Lobbying | Grant-seeking organizations | 3,952 | 1 | 0.5 | 1,976
Total |  |  | 1 |  | 14,651

Terry Clark,
Asst. Paperwork Reduction Act Reports Clearance Officer, Office of the Secretary.

[FR Doc. 2018-09136 Filed 4-30-18; 8:45 am]

BILLING CODE 4151-AE-P